DEPARTMENT OF THE INTERIOR

National Park Service

[NPS-WASO-NAGPRA-10742; 2200-1100-665]

Notice of Inventory Completion: New York University College of Dentistry, New York, NY

AGENCY: National Park Service, Interior.

ACTION: Notice.

SUMMARY: The New York University College of Dentistry has completed an inventory of human remains, in consultation with the appropriate Indian tribes, and has determined that there is a cultural affiliation between the human remains and present-day Indian tribes. Representatives of any Indian tribe that believes itself to be culturally affiliated with the human remains may contact the New York University College of Dentistry. Repatriation of the human remains to the Indian tribes stated below may occur if no additional claimants come forward.

DATES: Representatives of any Indian tribe that believes it has a cultural affiliation with the human remains should contact the New York University College of Dentistry at the address below by August 20, 2012.

ADDRESSES: Dr. Louis Terracio, New York University College of Dentistry, 345 East 24th St, New York, NY 10010, telephone (212) 998-9917.

SUPPLEMENTARY INFORMATION: Notice is here given in accordance with the Native American Graves Protection and Repatriation Act (NAGPRA), 25 U.S.C. 3003, of the completion of an inventory of human remains in the possession of the New York University College of Dentistry. The human remains were removed from San Joaquin County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the New York University College of Dentistry professional staff in consultation with representatives of the Buena Vista Rancheria of Me-Wuk Indians of California; California Valley Miwok Tribe, California; Chicken Ranch Rancheria of Me-Wuk Indians of California; Federated Indians of Graton Rancheria, California; Ione Band of Miwok Indians of California; Jackson Rancheria of Me-Wuk Indians of California; Picayune Rancheria of Chukchansi Indians of California; Santa Rosa Indian Community of the Santa Rosa Rancheria, California; Shingle Springs Band of Miwok Indians, Shingle Springs Rancheria (Verona Tract), California; Table Mountain Rancheria of California; Tule River Indian Tribe of the Tule River Reservation, California; Tuolumne Band of Me-Wuk Indians of the Tuolumne Rancheria of California; and the United Auburn Indian Community of the Auburn Rancheria of California (hereafter referred to as “The Tribes”).

History and Description of the Remains

At an unknown date, human remains representing, at minimum, two individuals were removed from Rhoads Mound in San Joaquin County, CA. At an unknown date, they became part of the collection of H.K. Deisher, which was sold in 1905. In 1916, the remains were catalogued into the collection of the Department of Physical Anthropology, Museum of the American Indian. In 1956, the remains were transferred to Dr. Theodore Kazamiroff, New York University College of Dentistry. No known individuals were identified. No associated funerary objects are present.

Rhoads Mound is a protohistoric site (A.D. 1500-1770) located on Roberts Island in the San Joaquin-Sacramento River delta. The island lies at the southern edge of aboriginal territory of the Eastern (Bay and Plains) Miwok and the northern edge of aboriginal territory of the Northern Valley Yokut.

At an unknown date, human remains representing, at minimum, two individuals were removed from Walkers Slough Mound in San Joaquin County, CA. At an unknown date, they became part of the collection of H.K. Deisher, which was sold in 1905. In 1916, the remains were catalogued into the collection of the Department of Physical Anthropology, Museum of the American Indian. In 1956, the remains were transferred to Dr. Theodore Kazamiroff, New York University College of Dentistry. No known individuals were identified. No associated funerary objects are present.

The Walkers Slough Mound is a historic site (A.D. 1770-1850) located near Stockton, in the area of the San Joaquin River Valley. The mound lies at the southern edge of aboriginal territory of the Eastern (Bay and Plains) Miwok and the northern edge of aboriginal territory of the Northern Valley Yokut.

The territorial divisions within the aboriginal lands of the Eastern (Bay and Plains) Miwok and the Northern Valley Yokut was diffuse and shifted through time. During consultation, tribal representatives stated that the early anthropological studies of the Yokuts and Miwok incorrectly divided these groups into discrete tribelets and overemphasized linguistic differences. Tribal representatives explained that although different dialects were spoken, the Miwok spoke a mutually intelligible language. The Yokuts also spoke a mutually intelligible language with regional dialects. Tribal representatives indicated that high population mobility and frequent intermarriage between groups during the historic period has resulting in a relationship of shared group identity for all Miwok tribes. Similarly, tribal representatives indicated that the Yokuts are all interrelated due to high population mobility and frequent intermarriage between groups.

Tribal representatives identified the descendants of the Eastern Miwok among the members of the Federally-recognized Miwok communities, including the Buena Vista Rancheria of Me-Wuk Indians of California; California Valley Miwok Tribe, California; Chicken Ranch Rancheria of Me-Wuk Indians of California; Federated Indians of Graton Rancheria, California; Ione Band of Miwok Indians of California; Jackson Rancheria of Me-Wuk Indians of California; Shingle Springs Band of Miwok Indians, Shingle Springs Rancheria (Verona Tract), California; Tuolumne Band of Me-Wuk Indians of the Tuolumne Rancheria of California; and the United Auburn Indian Community of the Auburn Rancheria of California. Tribal representatives identified the descendants of the Northern Valley Yokut among the Federally recognized Yokut tribes, including the Picayune Rancheria of Chukchansi Indians of California; Santa Rosa Indian Community of the Santa Rosa Rancheria, California; Table Mountain Rancheria of California; Tule River Indian Tribe of the Tule River Reservation, California; and the Tuolumne Band of Me-Wuk Indians of the Tuolumne Rancheria of California.

Determinations Made by the New York University College of Dentistry

Officials of the New York University College of Dentistry have determined that:

• Pursuant to 25 U.S.C. 3001(9), the human remains described in this notice represent the physical remains of four individuals of Native American ancestry.

• Pursuant to 25 U.S.C. 3001(2), there is a relationship of shared group identity that can be reasonably traced between the Native American human remains and The Tribes.

Additional Requestors and Disposition

Representatives of any Indian tribe that believes itself to be culturally affiliated with the human remains should contact Dr. Louis Terracio, New York University College of Dentistry, 345 East 24th St, New York, NY 10010, telephone (212) 998-9917, before August 20, 2012. Repatriation of the human remains to The Tribes may proceed after that date if no additional claimants come forward.

The New York University College of Dentistry is responsible for notifying The Tribes that this notice has been published.

Dated: June 28, 2012.
Sherry Hutt,
Manager, National NAGPRA Program.

[FR Doc. 2012-17646 Filed 7-18-12; 8:45 am]

BILLING CODE 4312-50-P